EXPORT-IMPORT BANK OF THE UNITED STATES

Economic Impact Policy

This notice is to inform the public that the Export-Import Bank of the United States has received an application to finance the export of approximately $211.5 million in U.S. equipment and services to a petrochemicals facility in Qatar. The U.S. exports will enable the petrochemicals facility to produce approximately 1.3 million metric tons of ethylene as an intermediate product (of which 600,000 metric tons will be off-taken by a joint venture partner for its own use), 350,000 metric tons of high-density polyethylene per year and approximately 345,000 metric tons of normal alpha olefins per year.

Available information indicates the following: the ethylene to be off-taken by a joint venture partner will be consumed in Qatar; the high-density polyethylene will be consumed in Asia, Europe, Africa and the Middle East; and the normal alpha olefins will be consumed in Asia, Europe, the United States and the Middle East. Initial production is expected to commence in the latter part of 2008. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 05-6520 Filed 4-1-05; 8:45 am]

BILLING CODE 6690-01-P